DEPARTMENT OF LABOR

Employment and Training Administration

Workforce Investment Act, Section 171(d), Demonstration Program: Incumbent/Dislocated Worker Skill Shortage II Demonstration Program

AGENCY: Employment and Training Administration, Labor.

ACTION: Notice of Availability of Funds and Solicitation for Grant Applications (SGA).

This notice contains all of the necessary information and forms needed to apply for grant funding.

SUMMARY: The U.S. Department of Labor (DOL), Employment and Training Administration (ETA), announces a second demonstration program to test the ability of the workforce development system to create projects or industry-led consortia for the purpose of upgrading current workers, designing or adapting training curricula in skills shortage occupational areas, or in regionally important business/industry areas including manufacturing and machining, and specialized industrial areas such as plastics, telecommunications and the environment, and to recruit/retrain workers in these occupations.

DATES: The closing date for receipt of this application is January 16, 2001. Applications must be received by 4:00 p.m. Eastern Time. No exceptions to the mailing and hand-delivery conditions set forth in this notice will be granted. Applications that do not meet the conditions set forth in this notice will not be considered. Telefacsimile (FAX) applications will not be honored.

ADDRESSES: Applications must be mailed or hand-delivered to: U.S. Department of Labor; Employment and Training Administration, Division of Federal Assistance, Attention: Marian G. Floyd, Reference: SGA/DAA 00-113, 200 Constitution Avenue, NW, Room S-4203, Washington, D.C. 20210.

Hand-Delivered Proposals. Proposals should be mailed at least five (5) days prior to the closing date. However, if proposals are hand delivered, they must be received at the designated address by 4:00 p.m., Eastern Time on Tuesday, January 16, 2001. All overnight mail will be considered to be hand-delivered and must be received at the designated place by the specified closing date and time. Telegraphed, e-mailed and/or faxed proposals will not be honored. Failure to adhere to the above instructions will be a basis for a determination of non responsiveness.

Late Proposals. A proposal received at the office designated in the solicitation after the exact time specified for receipt will not be considered unless it is received before the award is made and was either:

• Sent by U.S. Postal Service Express Mail Next Day Service Post Office to Addressee, not later than 5:00 p.m. at the place of mailing two working days prior to the date specified for receipt of the proposals. The term “working days” exclude weekends and U.S. Federal holidays.

• Sent by U.S. Postal Service registered or certified mail not later than the fifth (5th) calendar day before the date specified for receipt of applications (e.g., an offer submitted in response to a solicitation requiring receipt of applications by the 20th of the month must be mailed by the 15th). The only acceptable evidence to establish the date of mailing of a late proposal sent by either U.S. Postal Service registered or certified mail is the U.S. postmark both on the envelope or wrapper and on the original receipt from the U.S. Postal Service. Both postmarks must show a legible date or the proposal shall be processed as if mailed late. “Postmark” means a printed, stamped, or otherwise placed impression (exclusive of a postage meter machine impression) that is readily identifiable without further action as having been supplied and affixed by an employee of the U.S. Postal Service on the date of the mailing. Therefore, offerors should request the postal clerk to place a legible hand cancellation “bull's eye” postmark on both the receipt and the envelope or wrapper. Both postmarks must show a legible date, or the application shall be processed as though it had been mailed late.

Withdrawal of Applications. Applications may be withdrawn by written notice or telegram (including a mail gram) received at any time before an award is made. Applications may be withdrawn in person by the applicant or by an authorized representative thereof, if the representative's identity is made known and the representative signs a receipt for the proposal.

FOR FURTHER INFORMATION CONTACT: Fax questions to Marian G. Floyd, Division of Federal Assistance at (202) 219-8739 (this is not a toll-free number). All inquiries sent via a fax should include the SGA/DAA 00-113 and contact name, fax and phone number. This solicitation will also be published on the Internet on the Employment and Training Administration's (ETA) Home Page at http://www.doleta.gov. Award notifications will also be published on the ETA Home Page.

SUPPLEMENTARY INFORMATION: ETA is soliciting proposals on a competitive basis for the incumbent/dislocated workers' skill shortage II demonstration program. It is envisioned that the program will encompass the upgrading of current workers, designing or adapting training curricula in skills shortage occupational areas, or in regionally important business/industry areas including manufacturing and machining, and specialized industrial areas.

This announcement consists of five (5) parts:

• Part I—Background.

• Part II—Eligible Applicants and the Application Process.

• Part III—Statement of Work.

• Part IV—Rating Criteria and Award Selection Process.

• Part V—Monitoring, Reporting and Evaluation.

Part I. Background

A. Authority

Section 171(d) of the Workforce Investment Act of 1998 (WIA) (29 U.S.C. 2916) authorizes the use of funds for demonstration projects from funds made available to the Secretary under Section 132(a)(2)(A) of WIA (29 U.S.C. 2862). In addition, the DOL FY 2000 Appropriations Act of November 17, 1999, authorizes dislocated worker demonstration projects that provide assistance to new entrants in the workforce and incumbent workers. Demonstration program grantees must comply with all applicable federal and state laws and regulations in setting up and carrying out their program.

B. Purpose

The purpose of this demonstration program is to test the ability of the workforce development system to create projects or industry-led consortia for the purpose of upgrading current workers, designing or adapting training curricula in skills shortage occupational areas, or in regionally important business/industry areas including manufacturing and machining, and specialized industrial areas such as plastics, telecommunications and the environment, and to recruit/retrain workers in these occupations. The dislocated and/or incumbent workers who will be assisted by these efforts include specific groups such as agricultural workers, low skilled workers, and those needing assistance in overcoming barriers to employment. These barriers to employment may be caused by living in rural communities, having limited options for transportation to work, having inadequate or obsolete skills or having skills in declining occupations. The focus of these efforts will be on skills training in skills shortage occupations including welding and metals, new and growing occupations in technological fields such as information technology, telecommunications, and other fields in which technology skills are critical parts of the jobs emerging in their regional labor markets. Any consortia established as a result of this competition would also be expected to enhance the strategic planning efforts and policy efforts of local boards under the Workforce Investment Act in these areas.

This $8.2 million dislocated and incumbent worker demonstration program will support the creation of projects to respond to employer-identified skill shortages in regional labor markets with a focus on assisting the types of workers and types of occupational-industrial areas noted above. Such projects could encompass the creation of industry-led consortia which can design or adapt training curricula in skill shortage occupational areas or in key regional businesses. This program will build on two Departmental demonstration programs announced in June 2000—the $9.2 million comprehensive incumbent/dislocated worker retraining demonstration and the $10.3 million demonstration program for training in high skill jobs to meet critical labor shortages.

Part II. Eligible Applicants and the Application Process

A. Eligible Applicants and Participants

Any organization capable of fulfilling the terms and conditions of this solicitation may apply. Applicants should note that, prior to any selection as a grantee, ETA will review its agency records to assess the applicant organization's overall record in administering federal funds as provided in 20 CFR 667.170. Applicants also should know that this is a risk free federal program; therefore, all for profit organizations that apply will not be able to receive a fee if awarded a grant.

All participants who receive services in projects funded under this demonstration program must be either:

(a) Eligible dislocated workers as defined at Section 101(9) of the Workforce Investment Act. This section of the law may be viewed at http://usworkforce.org/asp/act.asp Proposed projects may target subgroups of the eligible population based on factors such as, but not limited to occupation, industry, nature of dislocation, and reason for unemployment; or

(b) Incumbent workers. These are currently-employed workers whose employers have determined that the workers require training in order to help keep their firms competitive and the subject workers employed, avert layoffs, upgrade workers' skills, increase wages earned by employees and/or keep workers' skills competitive. Such training would support further job retention and career development for improved economic self-sufficiency for employed workers, especially those most vulnerable to job loss, and increase the capability of the employing firm(s) to access and retain skilled workers.

B. Allowable Activities

Funds provided through this demonstration may be used only to provide services of the types described at Sections 134 (d)(2)(A-D)(J)(ii)(K), (d)(3)(C), (d)(4)(D), (e)(2), and (e)(3) of WIA. These encompass basic cores, more intensive, and training activities along with supportive services. The latter may be provided when they are necessary to enable an individual who is eligible for training, but cannot afford to pay for such supportive services, to participate in the training program. Supportive services are defined in Section 101(46) of WIA. (Use ETA's web site referenced above to view.)

Grant funds may be used to reimburse employers for extraordinary costs associated with on-the-job training of program participants, in accordance with the provisions of 20 CFR 663.710. In addition to those provisions, prospective applicants should be aware that grant funds may not be used for the following purposes:

(a) for training that an employer is in a position to provide and would have provided in the absence of the requested grant;

(b) to pay salaries for program participants; and

(c) for acquisition of production equipment.

Applicants may budget limited amounts of grant funds to work with technical experts or consultants to provide advice and develop more complete project plans after a grant award, however, the level of details in the project plan may affect the amount of funding provided.

Grant activities may include:

(a) development, testing and initial application of curricula focused on intensive, short-term training to get participants into productive, high demand employment as quickly as possible;

(b) working with employers to develop and apply worksite-based learning strategies that utilize cutting-edge technology and equipment;

(c) development of employer-based training programs that will take advantage of opportunities created by employers' needs for workers with new skills;

(d) development and initial application of contextual learning opportunities for participants to learn occupational theory in a classroom setting while applying that learning in an on-the-job setting;

(e) use of curriculum and skills training programs that are designed to impart learning to meet employer-specified or industry specific skill standards or certification requirements;

(f) convening of an Employer Advisory Board to identify skills gaps of job applicants and present workers which effect competitive production and to develop a strategy for retraining;

(g) innovative linkage and collaboration between employers and the local Workforce Investment Board (WIB) and/or One-Stop/Career Center system to ensure a steady supply of targeted workers.

The above are illustrative examples and are not intended to be an exhaustive listing of possible demonstration project designs or approaches which may achieve the purpose of this solicitation.

C. Coordination

In order to maximize the use of public resources and avoid duplication of effort, applicants will coordinate the delivery of services under this demonstration with the delivery of services under other programs (public or private), available to all or part of the target group. Projects linking or collaborating with an existing WIA funded One-Stop/Career Center and/or local Workforce Investment Board located within a project area fulfill this requirement. The use of Pell Grants for eligible workers or the use of State training or education funds provided for dislocated workers or certain types of employers should also be addressed in the application. Where appropriate, partnerships should also include trade unions, manufacturing extension programs, economic development organizations, training institutions, and other local stakeholders. Any efforts proposed in isolation will not have the maximum impact on building capacity within that region or industry and are not likely to be funded.

D. Wages

Proposals must provide assurance that all participating firms which employ successful training completers have committed to pay wages to these completers at the wage level set by any collective bargaining agreement which covers positions to be filled by the project participants, or, if no such agreement exists, at a level at least equal to meeting the lower living standard income level as defined in Section 101(24) of WIA.

E. Grant Awards

It is anticipated that $8.2 million will be available to fund these projects. DOL anticipates awarding 6 to 12 grants, with an estimated range of $200,000 to $3 million per grant, with no individual grant exceeding $3 million.

F. Period of Performance

The period of performance shall be 24 months from the date of execution by the Government.

G. Option To Extend

DOL may elect to exercise its option to extend these grants for an additional one (1) or two (2) years of operation, based on the availability of demonstration funding under the Workforce Investment Act, successful program operation, and the determination that a grantee's initial program findings could further inform the workforce development system through refinement of the present demonstration.

H. Proposal Submission

Applicants must submit four (4) copies of their proposal with original signatures. The proposal must consist of two (2) distinct parts, Part I and Part II. Part I of the proposal, the financial application, shall contain the Standard Form SF-424, “Application for Federal Assistance” (Appendix A) and the Budget Information Sheet (Appendix B). The Federal Domestic Assistance Catalog number is 17.246. Applicants shall indicate on the SF-424 the organization's IRS status, if applicable. According to the Lobbying Disclosure Act of 1995, section 18, an organization described in section 501(c)(4) of the Internal Revenue Code of 1986 which engages in lobbying activities shall not be eligible for the receipt of federal funds constituting an award, grant, or loan. The individual signing the SF-424 on behalf of the applicant must represent the responsible financial and administrative entity for a grant should that application result in an award.

The budget must include on separate pages detailed breakouts of each proposed budget line item found in the budget information sheet including detailed administrative costs. The Salaries line item shall be used to document the project staffing plan by providing a detailed listing of each staff position providing more than .05 FTE support to the project, by annual salary, number of months assigned to demonstration responsibilities, and FTE percentage to be charged to the grant. In addition, for the Contractual line item, each planned contract and the amount of the contract shall be listed. For each budget line item that includes funds or in-kind contributions from a source other than the requested grant funds, the source, the amount, and in-kind contributions, including any restrictions that may apply to these funds, shall be identified. Costs associated with the development of curriculum and other one-time costs should be noted separately in order for reviewers to identify costs associated with development and start-up as well as ongoing participant costs. In addition, the budget shall provide sufficient funds for four persons' trips to meetings in Washington, D.C. and other locations.

Part II, the technical proposal, shall demonstrate the offerors's capabilities in accordance with the Statement of Work in Part III of this solicitation. The technical proposal shall be limited to thirty (30) double-spaced, single-side, 8.5-inch x 11-inch pages with 1-inch margins. An Executive Summary not to exceed two pages must be included and will be counted within the 30 page limits. Attachments shall not exceed twenty (20) pages including the required Appendices A-D listed at the end of this SGA. Text type shall be 11 point or larger. No cost data or reference to price shall be included in the technical proposal.

Part III. Statement of Work

Each technical proposal must follow the format outlined here. As noted in Part IV, each criterion on which proposals will be rated relates to specific sections of this Part against which the criterion will be applied. Failure to provide the information requested in the specific section prescribed in this Part will result in a reduced rating of the evaluation criterion(a) to which that section applies. For every section, A through F, the application should include: (1) Information that responds to the requirements in this Part; (2) information that indicates adherence to the provisions described in Parts I and II of this solicitation; and (3) other information the offerors believe will address the rating criteria identified in Part IV.

Information required under B and C below shall be provided separately for each labor market area where incumbent and dislocated workers will be served. To the extent that the project design differs for different geographic areas, information required under section D below shall be provided for each geographic area.

A. Project Purpose

Describe the specific purpose or purposes of the proposed project.

B. Skill/Occupational/Industrial Shortage Areas

Identify those skills/occupational/industrial shortage areas to be addressed by the project. Such areas must be one or more of those identified in Part I.B above. The identity and geographic locations of those firms which currently have these shortages and which will be targeted for assistance under this project must be provided. Corroborating evidence (footnote sources) also should be presented, based on local or regional data and information, of the current existence of the identified shortages in the given geographic area with respect to both job demand and the lack of qualified job applicants.

Note: Information from the Bureau of Labor Statistics (BLS), available through a variety of web sites including BLS, O*NET and America's Labor Market Information System (ALMIS), should be considered as a key source of documentation. In addition, State Occupational Information Coordinating Committee (SOICC) and local WIB job training plans may also be considered. Other sources from the private sector such as Chamber of Commerce or local Technology Council surveys as well as university studies are also acceptable.

For each firm to be served, an authorizing letter should be included in the proposal's attachments indicating: (1) The skill area(s) of the firm's current shortage, (2) the duration of the shortage, (3) the magnitude of the shortage as reflected in the current and, if applicable, projected number of: (a) Unfilled job openings and/or (b) encumbered positions for which employees lack needed knowledge of the identified skill area, (4) plans for utilizing successful training completers, and (5) a commitment to adhere to the wage requirements for successful training completers as provided in Part II.D.

C. Targeted Workers

Identify the targeted workers who will receive the training and other services to be provided through this project. Indicate the number to be trained for each firm identified in section B above and whether they will be incumbent workers of the firm and/or recruited dislocated workers. For incumbent workers, discuss the types of positions these employees currently occupy, and, if training is voluntary, the availability of a sufficient number of workers. For dislocated workers, provide evidence that sufficient numbers of dislocated workers with appropriate backgrounds will be available for training and placement with participating firms. Describe the process to be used in documenting the incumbent or dislocated workers' status of the project participants consistent with the requirements in Part II.A.

D. Services

Describe the strategy and service components to be applied in addressing the skill/occupational/ industrial shortages identified in section B above. (Note: the services to be provided must be consistent with the provisions of Part II.B.) Insert a brief chart of the sequencing of the services to be provided. Include in this discussion detail regarding the service components identified below and any additional components proposed:

• Recruitment/outreach—depending on which type(s) of workers will be assisted by this project, indicate how incumbent workers will be recruited within the participating firms and/or how dislocated workers in the local/regional area(s) served will be recruited. Briefly describe any recruitment materials to be developed.

• Training—its general content, duration, and methods of instruction. Indicate whether the curriculum to be used is ready for use, will need to be adapted from an existing version, or will be developed. If applicable, briefly discuss the development process to be utilized. Discuss the appropriateness of the curriculum in addressing the identified shortages in section B above with particular reference to any pertinent skill or industrial standards. Discuss the suitability of the training in regard to the backgrounds and experience of the targeted workers described in section C above.

• Supportive services—describe each and the circumstances under which they would be provided.

• Placement—describe the process to be used once training is completed for placing dislocated workers into the skill shortage jobs identified in participating firms and how a firm's incumbent workers will be placed in either new jobs or their new skills will be utilized in their existing positions.

• Post-placement services—if applicable, describe such services and the circumstances under which they would be provided.

With reference to the service components to be utilized, describe the coordination of services to be undertaken. This description must include the requirements referenced in Part II.C. In addition, if applicable, describe any parallel efforts by participating firms to address their skill shortages in conjunction with the training being provided.

E. Performance Goals, Measures, and Outcomes

Describe the performance goals to be met by this project, the justification of the goals set, and the performance measures to be used in assessing the attainment of those goals in regard to the following outcomes:

• The reduction of identified shortages in participating firms as a result of the training/services provided

• The effect of reduced shortages on one or more dimensions of the participating firms' performance, e.g., productivity, sales, profitability, on time deliveries

• The effect on participating workers including skill gains, utilization of the new skills learned, wages, wage gains, and job satisfaction.

Note: in setting goals for wages, the wages for training completers must meet the requirements of Part II.D.

Projects may also include other performance goals and measures for other outcomes as applicable.

F. Staffing and Organization

Describe staffing for the project including the numbers and types of positions and associated full-time equivalents (FTE's), along with very brief (2-3 sentences) descriptions of duties. Include all positions for the project whether funded by federal grant funds or by other sources. This staffing description must be directly related to the proposal budget submitted in the financial application. Provide a project organizational chart identifying the positions and their relationships to each other. Include an explanation of this staffing in relation to the project's purpose, services, and performance goals.

Include, if applicable, a description of any industry-led consortium/Employer Advisory Board (existing or specially formed for this project) that will provide guidance to this project. Describe the consortium's role in this effort and its membership.

Describe the connection between this project and the local Workforce Investment Board(s) in the local areas in which the firms to be served are located with particular reference to: (1) The coordination of services to be provided worker participants (see Part II.C.) and (2) if applicable, the relationship of the industry-led consortium/Employer Advisory Board with the local WIB(s) in regard to strategy planning and policy efforts (see Part I.B.). Include as an attachment a letter(s) from the local WIB(s) indicating its commitments to working with this project, if funded.

Part IV. Rating Criteria and Award Selection Process

A careful evaluation of applications will be made by a technical review panel who will evaluate the applications against the criteria listed in the SGA. The panel results will be advisory in nature and not binding on the Grant Officer. The Government may elect to award grants with or without discussions with the offerors. In situations without discussions, an award will be based on the offerors's signature on the Standard Form SF-424, which constitutes a binding offer. The Grant Officer will make final award decisions based upon what is most advantageous to the Federal Government in terms of technical quality, responsiveness to this solicitation (including goals of the Department to be accomplished by this solicitation), geographical balance, and other factors.

Panelists shall evaluate proposals for acceptability based upon overall responsiveness in accordance with the factors below.

A. Documented Shortages and Available Workers (25 points)

Documentation is presented from those firms targeted for assistance attesting to their specific skill/occupational/industrial shortages in those shortage areas identified in the grant program purpose and the number of jobs affected. Sufficient corroborating information is provided demonstrating that the shortages identified by the firms also exist more generally in the local/ regional areas where the target firms are located. Credible information is presented to demonstrate that there are incumbent and dislocated workers who are available to participate in training in sufficient numbers and with appropriate backgrounds to alleviate the shortages identified in participating firms. (Relates to information requested in Part III, sections B and C.)

B. Service Provision (25 points)

The services planned are appropriate, suitable, and responsive to: (1) The need for reducing the shortages identified through the successful recruitment, training, support, and placement of incumbent and dislocated workers and (2) the backgrounds and experience of those workers who are to be served. A high degree of coordination with other public and private programs will occur in order to maximize the use of other public services and resources and to avoid duplicative efforts. (Relates to information requested in Part III, section D.)

C. Performance Goals and Measures (15 points)

The justifications cited for the performance goals proposed show a clear and logical relationship between the goals and the solicitation's identified outcomes and any other outcomes proposed. The proposed performance measures to determine the extent to which the performance goals will be met are also appropriate for the task. (Relates to information requested in Part III, section E.)

D. Project Management (15 points)

The proposed staffing with regard to the number, types of positions, duties, associated full-time equivalents (FTE's), and staff relationships are clearly presented. The explanation provided of the staffing in regard to the project's purpose, services, and performance goals shows a clear, logical, and reasonable relationship. There is an explicit commitment by the local WIB(s) to participate in this project. (Relates to information requested in Part III, section F.)

E. Cost-Effectiveness (20 points)

The cost effectiveness of the project is reasonable and optimal as indicated by the relationship of proposed costs to the number of participants to be served, the range of services to be provided, and the planned performance goals. (Relates to information requested in Part II, section H (on the financial application) and Part III, sections C, D, and E.)

Part V. Monitoring, Reporting and Evaluation

A. Monitoring

The Department shall be responsible for ensuring effective implementation of each competitive grant project in accordance with the Act, the Regulations, the provisions of this announcement and the negotiated grant agreement. Applicants should assume that at least one on-site project review will be conducted by Department staff, or their designees. This review will focus on the project's performance in meeting the grant's programmatic goals and participant outcomes, complying with the targeting requirements regarding participants who are served, expenditure of grant funds on allowable activities, collaboration with other organizations as required, and methods for assessment of the responsiveness and effectiveness of the services being provided. Grants may be subject to additional reviews at the discretion of the Department.

B. Reporting

DOL will arrange for or provide technical assistance to grantees in establishing appropriate reporting and data collection methods and processes taking into account the applicant's project management plan. An effort will be made to accommodate and provide assistance to grantees to be able to complete all reporting electronically. Applicants selected as grantees will be required to provide the following reports:

1. Monthly progress reports, during initial start-up and implementation of the project, and Quarterly Progress Reports thereafter.

2. Standard Form 269, Financial Status Report Form, on a quarterly basis.

3. Final Project Report including an assessment of project performance. This report will be submitted in hard copy and on electronic disk utilizing a format and instructions to be provided by the Department. A draft of the final report is due to the Department 45 days prior to the termination of the grant.

C. Evaluation

DOL will arrange for or conduct an independent evaluation of the outcomes, impacts, and benefits of the demonstration projects. Grantees must agree to make available records on participants and employers as well as project financial and management data and to provide access to personnel, as specified by the evaluator(s) under the direction of the Department.

Signed at Washington, D.C., this 25th day of October 2000.
Laura A. Cesario,
Grant Officer, Division of Federal Assistance.

Appendices

Appendix A—Application for Federal Assistance (SF-424)

Appendix B—Budget Information

Appendix C—Checklist

Appendix D—Implementation Benchmarks and Time Line

BILLING CODE 4510-30-U

[FR Doc. 00-27930 Filed 10-30-00; 8:45 am]

BILLING CODE 4510-30-C